DEPARTMENT OF THE TREASURY

Internal Revenue Service

26 CFR Part 301

[REG-148951-05]

RIN 1545-BF54

Change to Office To Which Notices of Nonjudicial Sale and Requests for Return of Wrongfully Levied Property Must Be Sent

AGENCY: Internal Revenue Service (IRS), Treasury.

ACTION: Notice of proposed rulemaking by cross-reference to temporary regulations.

SUMMARY: In the Rules and Regulations section of this issue of the Federal Register, the IRS is issuing temporary regulations relating to the discharge of liens under section 7425 and return of wrongfully levied upon property under section 6343 of the Internal Revenue Code (Code) of 1986. Those regulations clarify that such notices and claims should be sent to the IRS official and office specified in the relevant IRS publications. The regulations will affect parties seeking to provide the IRS with notice of a nonjudicial foreclosure sale and parties making administrative requests for return of wrongfully levied property. The text of those regulations also serves as the text of these proposed regulations.

DATES: Written or electronic comments and requests for a public hearing must be received by October 18, 2007.

ADDRESSES: Send submissions to: CC:PA:LPD:PR (REG-148951-05), Room 5203, Internal Revenue Service, PO Box 7604, Ben Franklin Station, Washington, DC 20044. Submissions may be hand-delivered to CC:PA:LPD:PR (REG-148951-05), Courier's Desk, Internal Revenue Service, 1111 Constitution Avenue, NW., Washington, DC 20224. Alternatively, taxpayers may submit comments electronically to the IRS Internet site via the Federal eRulemaking Portal at www.regulations.gov (IRS REG-148951-05).

FOR FURTHER INFORMATION CONTACT: Concerning the proposed regulations, Robin M. Ferguson, (202) 622-3610; concerning submissions of comments, the hearing, call Kelly Banks, (202) 622-7180 (not toll-free numbers).

SUPPLEMENTARY INFORMATION:

Background

Temporary regulations in the Rules and Regulations section of this issue of the Federal Register contain amendments to the Procedure and Administration Regulations (26 CFR part 301) relating to the giving of notice of nonjudicial sales under section 7425(b) of the Code and requests for return of wrongfully levied property under section 6343(b) of the Code. The text of those regulations also serves as the text of these proposed regulations. The preamble to the temporary regulations explains the temporary regulations and these proposed regulations.

Proposed Effective Date

These regulations are proposed to apply to any notice of sale filed or request for return of property made after the date that these regulations are published as final regulations in the Federal Register.

Special Analyses

It has been determined that this notice of proposed rulemaking is not a significant regulatory action as defined in Executive Order 12866. Therefore, a regulatory assessment is not required. It also has been determined that section 553(b) of the Administrative Procedure Act (5 U.S.C. chapter 5) does not apply to these regulations, and because the regulations do not impose a collection of information on small entities, the Regulatory Flexibility Act (5 U.S.C. chapter 6) does not apply. Pursuant to section 7805(f) of the Internal Revenue Code, this regulation has been submitted to the Chief Counsel for Advocacy of the Small Business Administration for comment on its impact on small business.

Comments and Requests for Public Hearing

Before these proposed regulations are adopted as final regulations, consideration will be given to any electronic and written comments (a signed original and eight (8) copies) or electronic comments that are submitted timely to the IRS. The IRS and Treasury Department specifically request comments on the clarity of the proposed rules and how they may be made easier to understand. All comments will be available for public inspection and copying. A public hearing will be scheduled if requested in writing by any person that timely submits written comments. If a public hearing is scheduled, notice of the date, time, and place for the public hearing will be published in the Federal Register.

Drafting Information

The principal author of these regulations is Robin M. Ferguson, Office of Associate Chief Counsel, Procedure and Administration (Collection, Bankruptcy and Summonses Division).

List of Subjects in 26 CFR Part 301

Employment taxes, Estate taxes, Excise taxes, Gift taxes, Income taxes, Penalties, Reporting and recordkeeping requirements.

Proposed Amendments to the Regulations

Accordingly, 26 CFR part 301 is proposed to be amended as follows:

PART 301—PROCEDURE AND ADMINISTRATION

Paragraph 1. The authority citation for part 301 continues to read in part as follows:

Authority: 26 U.S.C. 7805 * * *

Par. 2. Section 301.6343-2 is amended by revising paragraphs (a)(1) introductory text, (b) introductory text, and (e) to read as follows:

§ 301.6343-2 Return of wrongfully levied upon property.

(a)(1) [The text of the proposed amendment for § 301.6343-2(a)(1) introductory text is the same as the text of § 301.6343-2T(a)(1) introductory text published elsewhere in this issue of the Federal Register].

* * * * *

(b) [The text of the proposed amendment for § 301.6343-2(b) introductory text is the same as the text of § 301.6343-2T(b) introductory text published elsewhere in this issue of the Federal Register].

* * * * *

(e) [The text of the proposed amendment for § 301.6343-2(e) is the same as the text of § 301.6343-2T(e) published elsewhere in this issue of the Federal Register].

Par. 3. Section 301.7425-3 is amended by revising paragraphs (a)(1), (b)(1), (b)(2), (c)(1), (d)(2), (d)(3), and (d)(4), and adding paragraph (e) to read as follows:

§ 301.7425-3 Discharge of liens; special rules.

(a) * * * (1) [The text of the proposed amendment for § 301.7425-3(a)(1) is the same as the text of § 301.7425-3T(a)(1) published elsewhere in this issue of the Federal Register].

* * * * *

(b) * * * (1) [The text of the proposed amendment for § 301.7425-3(b)(1) is the same as the text of § 301.7425-3T(b)(1) published elsewhere in this issue of the Federal Register].

(2) [The text of the proposed amendment for § 301.7425-3(b)(2) is the same as the text of § 301.7425-3T(b)(2) published elsewhere in this issue of the Federal Register].

(c) * * * (1) [The text of the proposed amendment for § 301.7425-3(c)(1) is the same as the text of § 301.7425-3T(c)(1) published elsewhere in this issue of the Federal Register].

* * * * *

(d) * * * (2) [The text of the proposed amendment for § 301.7425-3(d)(2) is the same as the text of § 301.7425-3T(d)(2) published elsewhere in this issue of the Federal Register].

(3) [The text of the proposed amendment for § 301.7425-3(d)(3) is the same as the text of § 301.7425-3T(d)(3) published elsewhere in this issue of the Federal Register].

(4) [The text of the proposed amendment for § 301.7425-3(d)(4) is the same as the text of § 301.7425-3T(d)(4) published elsewhere in this issue of the Federal Register].

(e) [The text of the proposed amendment for § 301.7425-3(e) is the same as the text of § 301.7425-3T(e) published elsewhere in this issue of the Federal Register].

Kevin M. Brown,
Deputy Commissioner for Services and Enforcement.

[FR Doc. E7-14051 Filed 7-19-07; 8:45 am]

BILLING CODE 4830-01-P